DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atomospheric Administration (NOAA).

Title: Application and Reports for Scientific Research and Enhancement Permits Under the Endangered Species Act.

Form Number(s): None.

OMB Approval Number: 0648-0402.

Type of Request: Regular submission.

Burden Hours: 2,280.

Number of Respondents: 113.

Average Hours per Response: Permit applications, 30 hours; modification requests, 10 hours; annual reports and final reports, 10 hours.

Needs and Uses: The Endangered Species Act (ESA) prohibits the taking of endangered species. Section 10 of the ESA allows for certain exceptions to this prohibition, such as a taking for scientific research purposes or to enhance the propagation or survival of species listed as threatened or endangered under the ESA. NOAA has issued regulations to provide for application and reporting for exceptions related to scientific research or to enhance the propagation of threatened or endangered species. The information used to evaluate the proposed activity (permits) and on-going activities (reports) is necessary for NMFS to ensure the conservation of the species under the ESA.

Affected Public: Individuals or households; business or other for-profit organizations, not-for-profit institutions; federal government; state, local or tribal government.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: October 26, 2005.
Gwellnar Banks,
Management Analyst, Office of the Chief Information Officer.

[FR Doc. 05-21683 Filed 10-31-05; 8:45 am]

BILLING CODE 3510-22-P